OFFICE OF PERSONNEL MANAGEMENT

Excepted Service

AGENCY: U.S. Office of Personnel Management (OPM).

ACTION: Notice.

SUMMARY: This notice identifies Schedule A, B, and C appointing authorities applicable to a single agency that were established or revoked from October 1, 2013, to October 31, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during October 2013.

Schedule B

No schedule B authorities to report during October 2013.

Schedule C

The following Schedule C appointing authorities were approved during October 2013.

Agency name | Organization name | Position title | Authorization No. | Effective date
DEPARTMENT OF AGRICULTURE | Rural Business Service | Confidential Assistant | DA130225 | 10/18/2013
| Office of the Under Secretary Farm and Foreign Agricultural Service | Confidential Assistant | DA130226 | 10/23/2013
| Office of the Secretary | Director of the Office of Faith Based and Neighborhood Outreach | DA140001 | 10/30/2013
DEPARTMENT OF COMMERCE | Office of Public Affairs | Press Assistant | DC130098 | 10/21/2013
| Office of Under Secretary | Director of External Affairs | DC130102 | 10/22/2013
DEPARTMENT OF DEFENSE | Office of Assistant Secretary of Defense (Legislative Affairs) | Special Assistant | DD130129 | 10/17/2013
| Office of Assistant Secretary of Defense (Public Affairs) | Senior Public Affairs Advisor | DD140003 | 10/31/2013
DEPARTMENT OF EDUCATION | Office of the Under Secretary | Special Assistant | DB140002 | 10/28/2013
| Office of Communications and Outreach | Press Secretary | DB140003 | 10/29/2013
| Office of the Under Secretary | Confidential Assistant | DB140004 | 10/29/2013
DEPARTMENT OF ENERGY | Office of Public Affairs | Director of Digital Strategy | DE130108 | 10/18/2013
|  | Deputy Director | DE130111 | 10/18/2013
|  | Assistant Press Secretary | DE130119 | 10/18/2013
|  | Chief Speechwriter | DE130107 | 10/22/2013
| Office of the Secretary of Energy Advisory Board | Special Advisor | DE130109 | 10/18/2013
| Office of Fossil Energy | Senior Advisor | DE130112 | 10/18/2013
| Office of the Deputy Secretary | Special Advisor | DE130115 | 10/22/2013
| Office of the Secretary | Special Advisor | DE130116 | 10/18/2013
|  | Special Advisor for Finance | DE140003 | 10/28/2013
ENVIRONMENTAL PROTECTION AGENCY | Office of the Administrator | Deputy White House Liaison | EP140001 | 10/23/2013
DEPARTMENT OF HEALTH AND HUMAN SERVICES | Office of the Secretary | Deputy White House Liaison for Political Personnel, Boards and Commissions | DH140002 | 10/21/2013
DEPARTMENT OF HOUSING AND URBAN DEVELOPMENT | Office of the Secretary | Special Policy Advisor | DU130044 | 10/22/2013
| Office of the Chief Human Capital Officer | Advance Coordinator | DU130047 | 10/22/2013
| Office of Congressional and Intergovernmental Relations | Congressional Relations Officer (2) | DU130046 | 10/22/2013
|  |  | DU130048 | 10/22/2013
|  | Associate Director of Intergovernmental Relations | DU130049 | 10/22/2013
|  | General Deputy Assistant Secretary for Congressional Relations | DU130050 | 10/22/2013
| Office of Public Affairs | Deputy Press Secretary | DU130051 | 10/22/2013
DEPARTMENT OF THE INTERIOR | National Park Service | Special Assistant, National Park Service | DI140002 | 10/24/2013
NATIONAL AERONAUTICS AND SPACE ADMINISTRATION | Office of the Administrator | Executive Officer | NN140002 | 10/29/2013
NATIONAL CREDIT UNION ADMINISTRATION | Office of the Board | Senior Policy Advisor | CU140001 | 10/18/2013
SMALL BUSINESS ADMINISTRATION | Office of Investment | Special Advisor | SB130025 | 10/18/2013
DEPARTMENT OF STATE | Bureau of Conflict and Stabilization Operations | Director of Overseas Operations | DS140001 | 10/28/2013
DEPARTMENT OF TRANSPORTATION | Public Affairs | Speechwriter | DT140001 | 10/22/2013
UNITED STATES INTERNATIONAL TRADE COMMISSION | Office of Commissioner Kieff | Confidential Assistant | TC140001 | 10/24/2013
|  | Staff Assistant (Legal) (2) | TC140002 | 10/24/2013
|  |  | TC140003 | 10/24/2013

The following Schedule C appointing authorities were revoked during October 2013.

Agency | Organization | Position title | Authorization number | Vacate date
DEPARTMENT OF AGRICULTURE | Office of the Under Secretary for Food Safety | Special Assistant | DA110121 | 10/6/2013
DEPARTMENT OF EDUCATION | Office of the Under Secretary | Confidential Assistant | DB130004 | 10/4/2013
|  | Special Assistant | DB130031 | 10/18/2013
DEPARTMENT OF ENERGY | Office of the Secretary | Special Assistant to the Secretary | DE110023 | 10/15/2013
DEPARTMENT OF HOMELAND SECURITY | Office of the Chief of Staff | White House Liaison | DM110075 | 10/5/2013
| Federal Emergency Management Agency | Associate Director of Public Affairs/Press Secretary | DM120089 | 10/5/2013
DEPARTMENT OF THE INTERIOR | Office of Congressional and Legislative Affairs | Deputy Director, Office of Congressional and Legislative Affairs | DI110086 | 10/4/2013
OFFICE OF THE SECRETARY OF DEFENSE | Washington Headquarters Services | Defense Fellow | DD110027 | 10/5/2013
SMALL BUSINESS ADMINISTRATION | Office of International Trade | Associate Administrator for International Trade | SB110045 | 10/5/2013
UNITED STATES INTERNATIONAL TRADE COMMISSION | Office of the Chairman | Confidential Assistant | TC060010 | 10/17/2013

Authority: 5 U.S.C. 3301 and 3302; E.O. 10577, 3 CFR, 1954-1958 Comp., p. 218.

U.S. Office of Personnel Management.
Katherine Archuleta,
Director.

[FR Doc. 2013-28660 Filed 11-27-13; 8:45 am]

BILLING CODE 6325-39-P